DEPARTMENT OF THE INTERIOR

Bureau of Land Management

[21X.LLAKR00000.L13100000.DB0000]

Notice of Availability of the Coastal Plain Marsh Creek East Seismic Exploration Environmental Assessment

AGENCY: Bureau of Land Management, Interior.

ACTION: Notice of availability.

SUMMARY: In accordance with the National Environmental Policy Act of 1969, as amended, and the Tax Cuts and Jobs Act of 2017, which requires the Secretary of the Interior, acting through the Bureau of Land Management (BLM), to establish and administer a competitive oil and gas program for the leasing, development, production, and transportation of oil and gas in and from the Coastal Plain area within the Arctic National Wildlife Refuge (ANWR), the BLM, Arctic District Office, has prepared an Environmental Assessment (EA) and Draft Finding of No New Significant Impact (FONNSI) for proposed 3-dimensional seismic exploration in the Coastal Plain of the ANWR.

DATES: The BLM will accept comments concerning the adequacy of the analysis of the EA and the preliminary conclusions made in the Draft FONNSI. All comments must be received by December 30, 2020. Reviewers are encouraged to provide their comments in such a manner that they are useful to the agency's analysis. Therefore, comments should clearly articulate the reviewer's concerns and contentions.

ADDRESSES: Submit comments at the BLM ePlanning website (https://eplanning.blm.gov/eplanning-ui/project/2003258/510), or by mail or in person at the BLM Arctic District Office, Attn: Coastal Plain Seismic EA, 222 University Avenue, Fairbanks, Alaska 99709. Comments not transmitted in accordance with these instructions may not be considered.

FOR FURTHER INFORMATION CONTACT: Sarah LaMarr, Project Lead; by telephone, 907-474-2334; by email, slamarr@blm.gov; or by mail, at the address in the ADDRESSES section.

Individuals who use telecommunication devices for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Tax Cuts and Jobs Act of 2017, Section 20001 of Public Law 115-97 (Dec. 22, 2017), requires the Secretary of the Interior, acting through the BLM, to establish and administer a competitive oil and gas program for the leasing, development, production, and transportation of oil and gas in and out of the Coastal Plain area within the ANWR. Kaktovik Iñupiat Corporation (KIC) has requested authorization to conduct 3-dimensional seismic exploration on the eastern side of the Coastal Plain during the 2020/2021 winter season starting in January 2021, to acquire high-quality, high-resolution seismic data.

Seismic exploration would occur on approximately 352,400 acres around the community of Kaktovik, to include 92,000 acres of Kaktovik Iñupiat Corporation lands and approximately 260,400 acres of federally managed lands. Seismic exploration generates acoustic waves that are picked up by sensors as the waves travel through and bounce off subsurface formations. From this information, images can be created that show subsurface structure and formations including those areas of potential hydrocarbons.

Comments received in response to this notice, including names and addresses of those who comment, will be part of the public record for this proposed action.

Authority: 40 CFR 1506.6.

Chad B. Padgett,
State Director.

[FR Doc. 2020-27683 Filed 12-15-20; 8:45 am]

BILLING CODE 4310-JA-P